DEPARTMENT OF TRANSPORTATION

Surface Transportation Board

[Docket No. FD 35399]

Swanson Rail Transfer, L.P.—Lease and Operation Exemption—BDB Company

Swanson Rail Transfer, L.P. (SRT), a noncarrier, has filed a verified notice of exemption under 49 CFR 1150.31 to acquire by lease from affiliate/noncarrier BDB Company (BDB), and operate a parcel of land, formerly known as the Swanson Rail Yard, in Philadelphia, Pa. The property is approximately 159.54 feet wide and 2,063 feet long and is located about 25 feet east of Interstate Highway 95 between Pattison Avenue and the Delaware River Port Authority right-of-way (Walt Whitman Bridge approach/Interstate Highway 76).¹ SRT will construct ² and operate a truck-rail transfer facility on the property and provide associated rail common carrier services.

¹ According to SRT, there are no mileposts on the property.

² SRT states that it will, in a separate proceeding, seek Board authority to construct the transload facility and related rail infrastructure on the property.

This transaction is related to two other transactions for which notices of exemption have been simultaneously filed: Docket No. FD 35398, BDB Company—Acquisition Exemption—Consolidated Rail Corporation, in which BDB seeks Board approval to acquire from Consolidated Rail Corporation this property before it leases it to SRT; and Docket No. FD 35400, B. Robert DeMento, Jr., and Baggio Herman DeMento—Continuance in Control Exemption—BDB Company and Swanson Rail Transfer, L.P., in which the partners/owners of BDB and SRT, B. Robert DeMento, Jr., and Baggio Herman DeMento, seek Board approval to continue in control of BDB and SRT upon Board approval of this transaction and the transaction in FD 35398.

The transaction may not be consummated until September 1, 2010, the effective date of the exemption (30 days after the exemption was filed).

SRT certifies that, as a result of this transaction, its projected revenues will not exceed those that would qualify it as a Class III carrier and will not exceed $5 million.

If the verified notice contains false or misleading information, the exemption is void ab initio. Petitions to revoke the exemption under 49 U.S.C. 10502(d) may be filed at any time. The filing of a petition to revoke will not automatically stay the effectiveness of the exemption. Petitions to stay must be filed by no later than August 25, 2010 (at least 7 days before the exemption becomes effective).

An original and 10 copies of all pleadings, referring to Docket No. FD 35399, must be filed with the Surface Transportation Board, 395 E Street, SW., Washington, DC 20423-0001. In addition, a copy must be served on John F. McHugh, 6 Water Street, New York, N.Y. 10004.

Board decisions and notices are available on our Web site at www.stb.dot.gov.

Decided: August 12, 2010.
By the Board, Rachel D. Campbell, Director, Office of Proceedings.
Kulunie L. Cannon,
Clearance Clerk.

[FR Doc. 2010-20444 Filed 8-17-10; 8:45 am]

BILLING CODE 4915-01-P